DEPARTMENT OF HEALTH AND HUMAN SERVICES

Centers for Disease Control and Prevention

Disease, Disability, and Injury Prevention and Control Special Emphasis Panel (SEP)-RFA-CE23-004: Research Grants for Preventing Violence and Violence Related Injury; Amended Notice of Closed Meeting

Notice is hereby given of a change in the meeting of the Disease, Disability, and Injury Prevention and Control Special Emphasis Panel (SEP)- RFA-CE23-004: Research Grants for Preventing Violence and Violence Related Injury; March 29, 2023, 8:30 a.m.-5:30 p.m., EDT, Videoconference, in the amended FRN. The meeting was published in the Federal Register on February 22, 2023, Volume 88, Number 35, page 10905.

The meeting is being amended to remove the second day and should read as follows:

Date: March 28, 2023.

Time: 8:30 a.m.-5:00 p.m. (EDT)

Place: Videoconference.

The meeting is closed to the public.

FOR FURTHER INFORMATION CONTACT: Aisha L. Wilkes, M.P.H., Scientific Review Officer, National Center for Injury Prevention and Control, CDC, 4770 Buford Highway NE, Mailstop S106-9, Atlanta, Georgia 30341, Telephone: (404) 639-6473; Email: AWilkes@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-04043 Filed 2-27-23; 8:45 am]

BILLING CODE 4163-18-P